DEPARTMENT OF HOUSING AND URBAN DEVELOPMENT

[Docket No. FR-5666-N-01]

Notice of a Federal Advisory Committee Meeting; Manufactured Housing Consensus Committee

AGENCY: Office of the Assistant Secretary for Housing—Federal Housing Commissioner, Department of Housing and Urban Development (HUD).

ACTION: Notice of a Federal advisory committee meeting.

SUMMARY: This notice sets forth the schedule and proposed agenda for a meeting of the Manufactured Housing Consensus Committee (MHCC). The meeting is open to the public and the site is accessible to individuals with disabilities. The agenda provides an opportunity for citizens to comment on the business before the MHCC.

DATES: The meeting will be held October 23-25, 2012, commencing at 9:00 a.m. each day.

ADDRESSES: The meeting will be held at the Hilton Arlington, 950 North Stafford Drive, Arlington, VA 22203.

FOR FURTHER INFORMATION CONTACT: Henry S. Czauski, Acting Deputy Administrator, Office of Manufactured Housing Programs, Department of Housing and Urban Development, 451 7th Street SW., Room 9164, Washington, DC 20410, Telephone number 202-708-6423 (this is not a toll-free number). Persons who have difficulty hearing or speaking may access this number via TTY by calling the toll-free Federal Relay Service at 800-877-8339.

SUPPLEMENTARY INFORMATION: Notice of this meeting is provided in accordance with the Federal Advisory Committee Act, 5 U.S.C. App. 10(a)(2), through implementing regulations at 41 CFR 102-3.150. The Manufactured Housing Consensus Committee was established under section 604(a)(3) of the National Manufactured Housing Construction and Safety Standards Act of 1974, 42 U.S.C. 5403(a)(3).

Public Comment: Citizens wishing to comment on the business of the MHCC are encouraged to register on or before October 16, 2012, by contacting: The National Fire Protection Association, attention: Robert Solomon; by mail to: One Batterymarch Park, P.O. Box 9101, Quincy, Massachusetts, 02169, or by fax to 617-984-7110, or by email to lmackay@nfpa.org.

Please submit written comments, in addition to an oral presentation. The MHCC strives to accommodate citizen comments to the extent possible within the time constraints of the meeting agenda. Advance registration is strongly encouraged. The MHCC will also provide an opportunity for public comment on specific matters on the agenda.

Tentative Agenda:

October 23, 2012, 9:00 a.m. to 5:00 p.m.

October 24, 2012, 9:00 a.m. to 5:00 p.m.

October 25, 2012, 9:00 a.m. to 1:00 p.m.

October 23, 2012

—Call to Order

—Opening Remarks

—Minutes of October 2011 Meeting—Review and Approval

—Review of Agenda

—Subcommittee Meetings

October 24, 2012

—Meeting of the Full Committee

—Subcommittee and Other Reports

—Old Business

—Public Comment Period

—Consideration of Proposals

October 25, 2012

—Old Business (continued)

—New Business

—Public Comment Period

—Consideration of Proposals

—Adjourn at 1:00 p.m.

Dated: September 28, 2012.
Laura M. Marin,
Acting General Deputy Assistant, Secretary for Housing.

[FR Doc. 2012-24424 Filed 10-3-12; 8:45 am]

BILLING CODE 4210-67-P